NATIONAL SCIENCE FOUNDATION

Membership of National Science Foundation's Office of Inspector General Senior Executive Service Performance Review Board

AGENCY: National Science Foundation.

ACTION: Announcement of membership of the National Science Foundation's Performance Review Board for Office of Inspector General Senior Executive Service positions.

SUMMARY: This announcement of the membership of the National Science Foundation's Office of Inspector General Senior Executive Service Performance Review Board is made in compliance with 5 U.S.C. 4314(c)(4).

ADDRESSES: Comments should be addressed to Director, Division of Human Resource Management, National Science Foundation, Room 315, 4210 Wilson Boulevard, Arlington, VA 22230.

FOR FURTHER INFORMATION CONTACT: Mr. John P. Wilkinson, Jr., at the above address or (703) 292-8180.

SUPPLEMENTARY INFORMATION: The membership of the National Science Foundation's Office of Inspector General Senior Executive Service Performance Review Board is as follows: Mark S. Wrighton, Chairman, Audit and Oversight Committee, National Science Board, Chairperson Nathaniel Pitts, Director, Office of Integrative Activities Bruce Umminger, Senior Scientist, Office of Integrative Activities.

Dated: October 3, 2002.
John F. Wilkinson, Jr.,
Director, Division of Human Resource Management.

[FR Doc. 02-25603 Filed 10-7-02; 8:45 am]

BILLING CODE 7555-01-M